DEPARTMENT OF AGRICULTURE

Food and Nutrition Service

Agency Information Collection Activities: Proposed Collection; Comment Request—State Administrative Expense Funds Regulations

AGENCY: Food and Nutrition Service (FNS), USDA.

ACTION: Notice.

SUMMARY: In accordance with the Paperwork Reduction Act of 1995, this notice invites the general public and other public agencies to comment on this proposed information collection related to State administrative expense funds expended in the operation of the Child Nutrition Programs administered under the Child Nutrition Act of 1966. This collection is a revision of a currently approved collection.

DATES: Written comments must be received on or before December 12, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Lynn Rodgers-Kuperman, Branch Chief, Program Analysis and Monitoring Branch, Food and Nutrition Service, U.S. Department of Agriculture, 3101 Park Center Drive, Room 640, Alexandria, VA 22302. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 640, Alexandria, Virginia 22302.

All responses to this notice will be summarized and included in the request for Office of Management and Budget approval. All comments will be a matter of public record.

FOR FURTHER INFORMATION CONTACT: Requests for additional information or copies of this information collection should be directed to Ms. Lynn Rodgers-Kuperman at (703) 305-2590.

SUPPLEMENTARY INFORMATION: Title: 7 CFR part 235, State Administrative Expense Funds Regulations.

OMB Number: 0584-0067, Form Number(s) FNS-74, FNS-525, FNS-777, FNS 10.

Expiration Date: 12/31/2011.

Type of Request: Revision of a currently approved collection.

Abstract: Section 7 of the Child Nutrition Act of 1966 (Pub. L. 89-642), 42 U.S.C. 1776, authorizes the Department to provide Federal funds to State agencies (SAs) for administering the Child Nutrition Programs. State Administrative Expense Funds (SAE), 7 CFR part 235, sets forth procedures and recordkeeping requirements for use by SAs in reporting and maintaining records of their needs and uses of SAE funds.

Reporting Burden

Estimated Number of Respondents: 88.

Estimated Number of Responses per Respondent: 6.82.

Estimated Total Annual Responses: 601.

Estimated Time per Response: 1.32 hours.

Estimated Total Annual Burden on Respondents: 799.

Record Keeping Burden

Estimated Number of Respondents: 88.

Estimated Number of Responses per Respondent: 140.

Estimated Total Annual Responses: 12,354.

Estimated Time per Response: 1.03.

Estimated Total Annual Burden on Respondents: 12,726.

Total Burden Including Reporting and Recordkeeping

Affected Public: State Agencies.

Estimated Number of Respondents: 88.

Estimated Number of Responses per Respondent: 147.

Estimated Total Annual Responses: 12,936.

Estimated Time per Response: 1.04 hours.

Estimated Total Annual Burden on Respondents: 13,453.

Current OMB Inventory (part 235): 14,783.

Difference: 1,258.

Dated: October 3, 2011.
Audrey Rowe,
Administrator, Food and Nutrition Service.

[FR Doc. 2011-26150 Filed 10-7-11; 8:45 am]

BILLING CODE 3410-30-P